DEPARTMENT OF HEALTH AND HUMAN SERVICES

Centers for Disease Control and Prevention

[Program Announcement 04101]

Assessing Transmission and Prevention of Community-Associated MRSA Infection Among Children, Family Members, and Close Contacts; Notice of Availability of Funds—Amendment

A notice announcing the availability of fiscal year (FY) 2004 funds for a cooperative agreement Assessing Transmission and Prevention of Community-Associated MRSA Infection Among Children, Family Members, and Close Contacts was published in the Federal Register April 26, 2004, volume 69, number 80, pages 22523-22527. The notice is amended as follows: Page 22524, second column, section II. Award Information, and page 22527, first column, section V.3. Anticipated Announcement and Award Dates, change Anticipated Award Date to July 30, 2004.

Dated: May 24, 2004.
William P. Nichols,
Acting Director, Procurement and Grants Office, Centers for Disease Control and Prevention.

[FR Doc. 04-12234 Filed 5-28-04; 8:45 am]

BILLING CODE 4163-18-P